DEPARTMENT OF DEFENSE

Department of the Army; Corps of Engineers

Termination of the Environmental Impact Statement for the Proposed Lake Columbia Regional Water Supply Reservoir Project in Texas

AGENCY: Department of the Army, U.S. Army Corps of Engineers, DoD.

ACTION: Notice of Termination of the Environmental Impact Statement (EIS) Process.

SUMMARY: The U.S. Army Corps of Engineers, Fort Worth District, Regulatory Division is notifying interested parties that it has terminated the process to develop a Revised Draft Environmental Impact Statement (DEIS) and has withdrawn the Section 404 Clean Water Act permit application for the proposed `Lake Columbia Regional Water Supply Reservoir Project' submitted in 2005 by an independent governmental agency known as the Angelina & Neches River Authority (ANRA). The original Notice of Intent to Prepare an EIS was published in the Federal Register on Friday, June 28, 2005 (70 FR 37094).

FOR FURTHER INFORMATION CONTACT: Questions regarding the termination of this EIS process should be addressed to Mr. Chandler Peter, Regulatory Technical Specialist, U.S. Army Corps of Engineers, Fort Worth District, Regulatory Division, 819 Taylor Street, P.O. Box 17300, Fort Worth, TX 76102; (817) 886-1736; chandler.j.peter@usace.army.mil.

Stephen L. Brooks,
Chief, Regulatory Division, Fort Worth District.

[FR Doc. 2016-09999 Filed 4-28-16; 8:45 am]

BILLING CODE 3720-58-P